DEPARTMENT OF DEFENSE

Department of the Air Force

[Docket ID USAF-2008-0047]

Privacy Act of 1974; System of Records

AGENCY: Department of the Air Force, DoD.

ACTION: Notice to alter a system of records.

SUMMARY: The Department of the Air Force is proposing to alter a system of records notice in its existing inventory of record systems subject to the Privacy Act of 1974, (5 U.S.C. 552a), as amended.

DATES: This proposed action will be effective without further notice on January 14, 2009 unless comments are received which result in a contrary determination.

ADDRESSES: Send comments to the Air Force Privacy Act Officer, Office of Warfighting Integration and Chief Information Officer, SAF/XCPPI, 1800 Air Force Pentagon, Washington, DC 20330-1800.

FOR FURTHER INFORMATION CONTACT: Mr. Kenneth Brodie at (703) 696-7557.

SUPPLEMENTARY INFORMATION: The Department of the Air Force systems of records notices subject to the Privacy Act of 1974, (5 U.S.C. 552a), as amended, have been published in the Federal Register and are available from the address above.

The proposed system report, as required by 5 U.S.C. 552a(r) of the Privacy Act of 1974, as amended, was submitted on November 7, 2008, to the House Committee on Oversight and Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: December 9, 2008.
Morgan E. Frazier,
Alternate OSD Federal Register Liaison Officer, Department of Defense.

F051 AF JA B

System name:

Confidential Financial Disclosure Report (June 11, 1997, 62 FR 31793).

Changes:

* * * * *

Categories of individuals covered by the system:

Delete entry and replace with “Civilian personnel; Air Force military personnel in the rank of colonel or below whose basic duties and responsibilities require the exercise of judgment on Government decision making or taking action on (1) the administering or monitoring of grants or subsidies, (2) contracting or procurement, (3) auditing, or (4) any other government activity in which the final decision or action has a significant economic impact on the interest of any non-federal enterprise; and special Government employees who are ‘advisors’ or ‘consultants’. Army, Navy, Air Force, and Marine Corps active duty personnel and civilian employees in the same categories when assigned to headquarters of unified and specified commands for which Air Force is Executive Agent.”

Categories of records in the system:

Delete entry and replace with “Contains the individual's name, Social Security Number (SSN), title of the individual's position, date of appointment in present position, agency and major organization segment of the position, employment and financial interests, creditors, interest in real property, a list of persons from whom information can be obtained concerning the individual's financial situation, supervisor's evaluation, and Standards of Conduct Counselor/Deputy Counselor review.”

Authority for maintenance of the system:

Delete entry and replace with “10 U.S.C. 8013, Secretary of the Air Force; 10 U.S.C. 8037, Judge Advocate General; Title I of the Ethics in Government Act of 1978 (5 U.S.C. App.); E.O. 12674, Principles of Ethical Conduct for Government Officers and Employees; 5 CFR part 2634; and E.O. 9397 (SSN).”

Purpose(s):

Delete entry and replace with “Used in order to determine potential or actual conflicts of interest in the performance of official duties.”

* * * * *

Storage:

Delete entry and replace with “Paper records in file folders and electronic storage media.”

Retrievability:

Delete entry and replace with “Retrieved by name or Social Security Number (SSN).”

Safeguards:

Delete entry and replace with “Records are accessed by authorized personnel as necessary to accomplish their official duties. Paper records are stored in locked rooms and cabinets. The computer storage devices are protected by computer system software.”

Retention and disposal:

Delete entry and replace with “Retained for six years after which they shall be disposed of, unless needed in an ongoing investigation. Those records retained for an ongoing investigation will be disposed of when no longer needed in the investigation. Paper records are disposed of by tearing into pieces, shredding, pulping, macerating or burning. Computer records are destroyed by deleting, erasing, degaussing, or by overwriting.”

* * * * *

Notification procedure:

Delete entry and replace with “Individuals seeking to determine whether this system of records contains information on themselves should address written inquiries to the system manager or Deputy Standards of Conduct Counselor at any system location.

Written inquiries should include a full name, Social Security Number (SSN), address, daytime telephone number and a signature.”

Record access procedures:

Delete entry and replace with “Individuals seeking to access records about themselves contained in this system should address written requests to the system manager or Deputy Standards of Conduct Counselor at any system location.

Written inquiries should include a full name, Social Security Number (SSN), address, daytime telephone number and a signature.”

Contesting record procedures:

Delete entry and replace with “The Air Force rules for accessing records, and for contesting contents and appealing initial agency determinations are published in Air Force Instruction 33-332; 32 CFR part 806b; or may be obtained from the system manager.”

* * * * *

F051 AF JA B

System name:

Confidential Financial Disclosure Report.

System location:

Office of the General Counsel, Office of the Secretary of the Air Force, 1740 Air Force Pentagon, Washington, DC 20330-1740; The Judge Advocate General, Headquarters United States Air Force, 1420 Air Force Pentagon, Washington, DC 20330-1420; Headquarters of major commands and at all levels down to and including Air Force installations, and unified commands for which Air Force is Executive Agent. Official mailing addresses are published as an appendix to the Air Force's compilation of systems of records notices.

Categories of individuals covered by the system:

Civilian personnel; Air Force military personnel in the rank of colonel or below whose basic duties and responsibilities require the exercise of judgment on Government decision making or taking action on (1) the administering or monitoring of grants or subsidies, (2) contracting or procurement, (3) auditing, or (4) any other government activity in which the final decision or action has a significant economic impact on the interest of any non-federal enterprise; and special Government employees who are ‘advisors’ or ‘consultants’. Army, Navy, Air Force, and Marine Corps active duty personnel and civilian employees in the same categories when assigned to headquarters of unified and specified commands for which Air Force is Executive Agent.

Categories of records in the system:

Contains the individual's name, Social Security Number (SSN), title of the individual's position, date of appointment in present position, agency and major organization segment of the position, employment and financial interests, creditors, interest in real property, a list of persons from whom information can be obtained concerning the individual's financial situation, supervisor's evaluation, and Standards of Conduct Counselor/Deputy Counselor review.

Authority for maintenance of the system:

10 U.S.C. 8013, Secretary of the Air Force, 10 U.S.C. 8037, Judge Advocate General; Title I of the Ethics in Government Act of 1978 (5 U.S.C. App.); E.O. 12674, Principles of Ethical Conduct for Government Officers and Employees; 5 CFR part 2634; and E.O. 9397(SSN).

Purpose(s):

Used in order to determine potential or actual conflicts of interest in the performance of official duties.

Routine uses of records maintained in the system, including categories of users and the purposes of such uses:

In addition to those disclosures generally permitted under 5 U.S.C. 552a(b) of the Privacy Act, these records or information contained therein may specifically be disclosed outside the Department of Defense as a routine use pursuant to 5 U.S.C. 552a(b)(3) as follows:

The DoD `Blanket Routine Uses' published at the beginning of the Air Force's compilation of systems of records notices apply to this system.

Policies and practices for storing, retrieving, accessing, retaining, and disposing of records in the system:

Storage:

Papers records in file folders and electric storage media.

Retrievability:

Retrieved by name or Social Security Number (SSN).

Safeguards:

Records are accessed by authorized personnel as necessary to accomplish their official duties. Paper records are stored in locked rooms and cabinets. The computer storage devices are protected by computer system software.

Retention and disposal:

Retained for six years after which they shall be disposed of, unless needed in an ongoing investigation. Those records retained for an ongoing investigation will be disposed of when no longer needed in the investigation. Paper records are disposed of by tearing into pieces, shredding, pulping, macerating or burning. Computer records are destroyed by deleting, erasing, degaussing, or by overwriting.

System manager(s) and address:

The Assistant General Counsel for Civilian Personnel and Fiscal Law, Office of the General Counsel, Office of the Secretary of the Air Force, 1740 Air Force Pentagon, Washington, DC 20330-1740

The Judge Advocate General, Headquarters United States Air Force, 1420 Air Force Pentagon, Washington, DC 20330-1420.

Notification procedure:

Individuals seeking to determine whether this system of records contains information on themselves should address written inquiries to or visit the system manager or Deputy Standards of Conduct Counselor at any system location.

Written inquiries should include a full name, Social Security Number (SSN), address, daytime telephone number and a signature.

Record access procedures:

Individuals seeking to access records about themselves contained in this system should address written requests to the system manager or Deputy Standards of Conduct Counselor at any system location.

Written inquiries should include a full name, Social Security Number (SSN), address, daytime telephone number and a signature.

Contesting record procedures:

The Air Force rules for accessing records, and for contesting contents and appealing initial agency determinations are published in Air Force Instruction 33-332; 32 CFR part 806b; or may be obtained from the system manager.

Record source categories:

Information is obtained from the individual or from personnel designated by the individual.

Exemptions claimed for the system:

None.

[FR Doc. E8-29525 Filed 12-12-08; 8:45 am]

BILLING CODE 5001-05-P